SURFACE TRANSPORTATION BOARD

[Docket No. EP 290 (Sub-No. 5) (2022-4)]

Quarterly Rail Cost Adjustment Factor

AGENCY: Surface Transportation Board.

ACTION: Approval of rail cost adjustment factor.

SUMMARY: The Board has approved the fourth quarter 2022 Rail Cost Adjustment Factor (RCAF) and cost index filed by the Association of American Railroads. The fourth quarter 2022 RCAF (Unadjusted) is 1.295. The fourth quarter 2022 RCAF (Adjusted) is 0.527. The fourth quarter 2022 RCAF-5 is 0.503.

DATES: Applicability Date: October 1, 2022.

FOR FURTHER INFORMATION CONTACT: Pedro Ramirez at (202) 245-0333. Assistance for the hearing impaired is available through the Federal Relay Service at (800) 877-8339.

SUPPLEMENTARY INFORMATION: Additional information is contained in the Board's decision, which is available at www.stb.gov.

Decided: September 19, 2022.
By the Board, Board Members Fuchs, Hedlund, Oberman, Primus, and Schultz.
Jeffrey Herzig,
Clearance Clerk.

[FR Doc. 2022-20671 Filed 9-22-22; 8:45 am]

BILLING CODE 4915-01-P